DEPARTMENT OF ENERGY

Federal Energy Regulatory Commission

[Project No. 1744-041]

PacifiCorp; Notice of Availability of Executed Programmatic Agreement for the Weber Hydroelectric Project

Take notice that on November 2, 2023, the Federal Energy Regulatory Commission (Commission) and the Utah State Historic Preservation Officer (SHPO) executed a Programmatic Agreement for the Weber Hydroelectric Project No. 1744.¹ The project is located on the Weber River near the city of Ogden in Weber, Morgan, and Davis counties, Utah and occupies federal lands within the Uinta-Wasatch-Cache National Forest managed by the U.S. Department of Agriculture's Forest Service.

¹ PacifiCorp, 174 FERC ¶ 62,172 (2021).

On January 20, 2023, and April 18, 2023, PacifiCorp, the project's licensee, requested Commission approval to undertake certain construction, modification, and removal activities that have the potential to adversely affect properties included in, or eligible for inclusion in, the National Register of Historic Places. Thereafter, Commission staff determined that a Programmatic Agreement should be executed to ensure compliance with section 106 of the National Historic Preservation Act.²

² 54 U.S.C. 306108.

On November 2, 2023, the Commission and the Utah SHPO executed the Programmatic Agreement. PacifiCorp was invited to concur in the agreement and did so on November 14, 2023. The Programmatic Agreement requires PacifiCorp to continue to implement the Historic Properties Management Plan approved in Article 407 of the project's license.³ Pursuant to section 6 of the Federal Power Act,⁴ the Commission is providing notice that it plans to issue an order amending the license to incorporate the executed Programmatic Agreement. Unless and until the Commission issues an order incorporating the Programmatic Agreement into the license, the agreement has no independent legal effect.

³ PacifiCorp, 174 FERC ¶ 62,172 at P 53 & Article 407.

⁴ 16 U.S.C. 799.

The executed Programmatic Agreement may be viewed on the Commission's website at http://www.ferc.gov under the eLibrary link. Enter the docket number (P-1744) in the docket number field to access the document. For assistance, contact FERC Online Support at FERCOnlineSupport@ferc.gov or toll-free at 1-866-208-3676, or for TTY, (202) 502-8659. You may also register online at https://ferconline.ferc.gov/FERCOnline.aspx to be notified via email of new filings and issuances related to this or other pending projects.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Jennifer Polardino at 202-502-6437 or jennifer.polardino@ferc.gov.

Dated: January 12, 2024.
Debbie-Anne A. Reese,
Acting Secretary.

[FR Doc. 2024-01035 Filed 1-18-24; 8:45 am]

BILLING CODE 6717-01-P